SECURITIES AND EXCHANGE COMMISSION

[File No. 500-1]

In the Matter of Amstem Corporation, Anesiva, Inc., Balsam Ventures, Inc., and Catcher Holdings, Inc.; Order of Suspension of Trading

January 20, 2012.

It appears to the Securities and Exchange Commission that there is a lack of current and accurate information concerning the securities of Amstem Corporation because it has not filed any periodic reports since the period ended December 31, 2009.

It appears to the Securities and Exchange Commission that there is a lack of current and accurate information concerning the securities of Anesiva, Inc. because it has not filed any periodic reports since the period ended September 30, 2009.

It appears to the Securities and Exchange Commission that there is a lack of current and accurate information concerning the securities of Balsam Ventures, Inc. because it has not filed any periodic reports since the period ended September 30, 2009.

It appears to the Securities and Exchange Commission that there is a lack of current and accurate information concerning the securities of Catcher Holdings, Inc. because it has not filed any periodic reports since the period ended September 30, 2007.

The Commission is of the opinion that the public interest and the protection of investors require a suspension of trading in the securities of the above-listed companies. Therefore, it is ordered, pursuant to Section 12(k) of the Securities Exchange Act of 1934, that trading in the securities of the above-listed companies is suspended for the period from 9:30 a.m. EST on January 20, 2012, through 11:59 p.m. EST on February 2, 2012.

By the Commission.
Elizabeth M. Murphy,
Secretary.

[FR Doc. 2012-1455 Filed 1-20-12; 11:15 am]

BILLING CODE 8011-01-P